DEPARTMENT OF HEALTH AND HUMAN SERVICES

National Institutes of Health

Center for Scientific Review; Amended Notice of Meeting

Notice is hereby given of a change in the meeting of the Center for Scientific Review Special Emphasis Panel, July 07, 2015, 12:00 p.m. to July 09, 2015, 05:00 p.m., National Institutes of Health, 6701 Rockledge Drive, Bethesda, MD 20892 which was published in the Federal Register on June 10, 2015, 80 FR 111 pg. 32968.

The meeting date has changed to July 8-9, 2015 starting at 8:00 a.m. and ending at 6:00 p.m. The meeting location remains the same. The meeting is closed to the public.

Dated: June 23, 2015.
Melanie J. Gray,
Program Analyst, Office of Federal Advisory Committee Policy.

[FR Doc. 2015-15820 Filed 6-26-15; 8:45 am]

BILLING CODE 4140-01-P